DEPARTMENT OF DEFENSE

Department of the Navy

Notice of Intent To Grant Exclusive Patent License; Nanoptics, Inc.

AGENCY: Department of the Navy, DOD.

ACTION: Notice.

SUMMARY: The Department of the Navy hereby gives notice of a prospective license to Nanoptics Inc. to the Government-owned invention described as “GRID-FREE, MODULAR LARGE SCREEN DISPLAY”.

DATES: Anyone wishing to object to the grant of this license must file written objections along with supporting evidence, if any, not later than July 31, 2000.

ADDRESSES: Written objections are to be filed with the Office of Patent Counsel, Space and Naval Warfare Systems Center, D0012, 53510 Silvergate Ave., Rm 103, San Diego, CA 92152-5765. Kindly reference N.C. 72,844 in all correspondence directed to this matter.

FOR FURTHER INFORMATION CONTACT: Mr. Harvey Fendelman, Patent Counsel, Space and Naval Warfare Systems Center, Code D0012, 53510 Silvergate Ave., Rm 103, San Diego, CA 92152-5765, telephone (619) 553-3001.

(Authority: 35 U.S.C. 207, 37 CFR Part 404)

Dated: May 18, 2000.
J.L. Roth,
Lieutenant Commander, Judge Advocate General's Corps, U.S. Navy, Federal Register Liaison Officer.

[FR Doc. 00-13392 Filed 5-26-00; 8:45 am]

BILLING CODE 3810-FF-P